NUCLEAR REGULATORY COMMISSION

[Docket No. 40-9075-MLA; ASLBP No. 10-898-02-MLA-BD01]

Powertech (USA), Inc.; Establishment of Atomic Safety and Licensing Board

Pursuant to delegation by the Commission dated December 29, 1972, published in the Federal Register, 37 FR 28,710 (1972), and the Commission's regulations, see 10 CFR 2.104, 2.105, 2.300, 2.309, 2.313, 2.318, and 2.321, notice is hereby given that an Atomic Safety and Licensing Board (Board) is being established to preside over the following proceeding: Powertech (USA) Inc. (Dewey-Burdock In Situ Uranium Recovery Facility).

This Board is being established pursuant to a request for hearing filed by David Frankel et al. in response to a January 5, 2010 Notice of Opportunity for Hearing published in the Federal Register (75 FR 467) regarding Powertech (USA) Inc.'s application for a source materials license for an in situ uranium recovery facility to be located in Fall River and Custer Counties, South Dakota.

The Board is comprised of the following administrative judges:

William J. Froehlich, Chair, Atomic Safety and Licensing Board Panel, U.S. Nuclear Regulatory Commission, Washington, DC 20555-0001;

Richard F. Cole, Atomic Safety and Licensing Board Panel, U.S. Nuclear Regulatory Commission, Washington, DC 20555-0001;

Mark O. Barnett, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 12th day of March 2010.
E. Roy Hawkens,
Chief Administrative Judge, Atomic Safety and Licensing Board Panel.

[FR Doc. 2010-5926 Filed 3-17-10; 8:45 am]

BILLING CODE 7590-01-P